CONSUMER PRODUCT SAFETY COMMISSION

16 CFR Chapter II

[Docket No. CPSC-2022-0017]

Notice of Availability of Updated ASTM Standard Under the Portable Fuel Container Safety Act

AGENCY: Consumer Product Safety Commission.

ACTION: Notification of availability and request for comment.

SUMMARY: In January 2023, the U.S. Consumer Product Safety Commission determined under the Portable Fuel Container Safety Act of 2020 (PFCSA) that ASTM F3429/F3429M-20 is a mandatory consumer product safety rule that impedes the propagation of flames into pre-filled portable fuel containers covered by the standard. ASTM has since notified the Commission that it has revised this voluntary standard. CPSC seeks comment on whether the revision meets the requirements of the PFCSA.

DATES: Comments must be received by July 7, 2023.

ADDRESSES: Submit comments, identified by Docket No. CPSC-2022-0017, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by electronic mail (email), except as described below.

Mail/Hand Delivery/Courier/Confidential Written Submissions: CPSC encourages you to submit electronic comments by using the Federal eRulemaking Portal. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided, to https://www.regulations.gov. If you wish to submit confidential business information, trade secret information, or other sensitive or protected information that you do not want to be available to the public, you may submit such comments by mail, hand delivery, or courier, or you may email them to: cpsc-os@cpsc.gov.

Docket: For access to the docket to read background documents or comments received, go to: https://www.regulations.gov, and insert the docket number, CPSC-2022-0017, into the “Search” box, and follow the prompts.

FOR FURTHER INFORMATION CONTACT: Scott Ayers, U.S. Consumer Product Safety Commission, 5 Research Place, Rockville, MD 20850; telephone: 301-987-2030; email: sayers@cpsc.gov.

SUPPLEMENTARY INFORMATION: The PFCSA ¹ requires the Commission to promulgate a final rule to require flame mitigation devices in portable fuel containers that impede the propagation of flame into the container. 15 U.S.C. 2056d(b)(1), (2). However, the Commission is not required to promulgate a final rule for a class of portable fuel containers within the scope of the PFCSA if the Commission determines at any time that:

¹ Portable Fuel Container Safety Act of 2020, codified at 15 U.S.C. 2056d, as stated in Public Law 116-260, div. FF, title IX, § 901, available at: https://www.govinfo.gov/content/pkg/PLAW-116publ260/pdf/PLAW-116publ260.pdf.

• There is a voluntary standard for flame mitigation devices for those containers that impedes the propagation of flame into the container;

• The voluntary standard is or will be in effect not later than 18 months after the date of enactment of the PFCSA; and

• The voluntary standard is developed by ASTM International or such other standard development organization that the Commission determines to have met the intent of the PFCSA.

15 U.S.C. 2056d(b)(3)(A). Any such Commission determinations regarding applicable voluntary standards must be published in the Federal Register, and the requirements of such a voluntary standard “shall be treated as a consumer product safety rule.” 15 U.S.C. 2056d(b)(3)(B) and (b)(4).

Under this authority, on January 13, 2023, the Commission published a document determining that three voluntary standards for portable fuel containers meet the requirements of the PFCSA and will be treated as consumer product safety rules: ASTM F3429/F3429M-20 (prefilled containers), ASTM F3326-21 (containers sold empty), and section 18 of UL 30:2022 (safety cans). 88 FR 2206.

Portable fuel containers sold pre-filled are within the scope of ASTM F3429/F3429M, Standard Specification for Performance of Flame Mitigation Devices Installed in Disposable and Pre-Filled Flammable Liquid Containers. ASTM lists the standard as a dual standard in inch-pound (F3429 designation) and metric (F3429M designation) units. ASTM F3429/F3429M was first published in 2020. ASTM published a revised version of ASTM F3429/F3429M-20 in May 2023, as ASTM F3429/F3429M-23. On June 12, 2023, ASTM notified the Commission that it had approved and published ASTM F3429/F3429M-23.

Under section (b)(5) of the PFCSA, if the requirements of a voluntary standard that meet the requirements of section (b).

(3) are subsequently revised, the organization that revised the standard shall notify the Commission after the final approval of the revision. Any such revision to the voluntary standard shall become enforceable as a consumer product safety rule not later than 180 days after the Commission is notified of a revised voluntary standard that meets the conditions of section (b)(3) (or such later date as the Commission determines appropriate), in place of the prior version, unless within 90 days after receiving the notice the Commission determines that the revised voluntary standard does not meet the requirements described in section (b)(3) of the PFCSA. 15 U.S.C. 2056d(b)(5).

CPSC staff is assessing the revised voluntary standard to determine, consistent with section (b)(5) of the PFCSA, whether the revisions in ASTM F3429/F3429M-23 meet the requirements of section (b)(3)(A) of the PFCSA listed above. The Commission invites public comment on that question, to inform staff's assessment and any subsequent Commission consideration of the revisions in ASTM F3429/F3429M-23.²

² The Commission voted 4-0 to publish this notification.

ASTM F3429/F3429M-23 is available for review in several ways. ASTM has provided on its website (at https://www.astm.org/CPSC.htm), at no cost, a read-only copy of the 2023 revisions to ASTM F3429/F3429M, including a red-lined version that identifies the changes made to ASTM F3429/F3429M-20. Likewise, a read-only copy of the existing standard (ASTM F3429/F3429M-20) is available for viewing, at no cost, on the ASTM website at: https://www.astm.org/READINGLIBRARY/. Interested parties can also download copies of the standards by purchasing them from ASTM International, 100 Barr Harbor Drive, P.O. Box C700, West Conshohocken, PA 19428-2959; phone: 610-832-9585; https://www.astm.org. Alternatively, interested parties can schedule an appointment to inspect copies of the standards at CPSC's Office of the Secretary, U.S. Consumer Product Safety Commission, 4330 East West Highway, Bethesda, MD 20814, telephone: 301-504-7479.

Comments must be received by July 7, 2023. Because of the short statutory time frame Congress established for the Commission to consider revised voluntary standards under section (b)(5) of the PFCSA, CPSC will not consider comments received after this date.

Alberta E. Mills,
Secretary, Consumer Product Safety Commission.

[FR Doc. 2023-13351 Filed 6-22-23; 8:45 am]

BILLING CODE 6355-01-P